SMALL BUSINESS ADMINISTRATION

[Disaster Declaration #21197 and #21198; KENTUCKY Disaster Number KY-20021]

Presidential Declaration of a Major Disaster for Public Assistance Only for the Commonwealth of Kentucky

AGENCY: U.S. Small Business Administration.

ACTION: Notice.

SUMMARY: This is a Notice of the Presidential declaration of a major disaster for Public Assistance Only for the Commonwealth of Kentucky (FEMA-4864-DR), dated July 22, 2025.

Incident: Severe Storms, Straight-line Winds, Tornadoes, Flooding, Landslides, and Mudslides.

DATES: Issued on July 22, 2025.

Incident Period: April 2, 2025 through May 16, 2025.

Physical Loan Application Deadline Date: September 22, 2025.

Economic Injury (EIDL) Loan Application Deadline Date: April 22, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: Notice is hereby given that as a result of the President's major disaster declaration on July 22, 2025, Private Non-Profit organizations that provide essential services of a governmental nature may file disaster loan applications online using the MySBA Loan Portal https://lending.sba.gov or other locally announced locations. Please contact the SBA disaster assistance customer service center by email at disastercustomerservice@sba.gov or by phone at 1-800-659-2955 for further assistance.

The following areas have been determined to be adversely affected by the disaster:

Primary Counties: Allen, Barren, Breathitt, Breckinridge, Butler, Caldwell, Calloway, Campbell, Carroll, Carter, Casey, Christian, Clark, Edmonson, Elliott, Estill, Floyd, Franklin, Gallatin, Garrard, Graves, Grayson, Green, Greenup, Hancock, Hart, Henderson, Hickman, Hopkins, Jackson, Jefferson, Johnson, Kenton, LaRue, Lawrence, Lee, Logan, Lyon, Magoffin, Marion, Martin, McLean, Meade, Metcalfe, Morgan, Muhlenberg, Nelson, Nicholas, Owen, Owsley, Pendleton, Perry, Powell, Rockcastle, Spencer, Taylor, Trigg, Trimble, Union, Warren, Washington, Webster, Wolfe, Woodford.

The Interest Rates are:

| Percent
For Physical Damage:
Non-Profit Organizations with Credit Available Elsewhere | 3.625
Non-Profit Organizations without Credit Available Elsewhere | 3.625
For Economic Injury:
Non-Profit Organizations without Credit Available Elsewhere | 3.625

The number assigned to this disaster for physical damage is 211976 and for economic injury is 211980.

(Catalog of Federal Domestic Assistance Number 59008)

(Authority: 13 CFR 1234.3(b).)

James Stallings,
Associate Administrator, Office of Disaster Recovery & Resilience.

[FR Doc. 2025-14426 Filed 7-29-25; 8:45 am]

BILLING CODE 8026-09-P